DEPARTMENT OF COMMERCE

National Oceanic and Atmospheric Administration

RIN 0648-XG828

Pacific Fishery Management Council; Public Meetings; Correction

AGENCY: National Marine Fisheries Service, National Oceanic and Atmospheric Administration, Commerce.

ACTION: Notice; correction.

SUMMARY: The Pacific Fishery Management Council (Pacific Council) and its advisory entities will hold public meetings. The document listed on the agenda, under the heading, “Schedule of Ancillary Meetings”, for Day 2, Wednesday, April 10, 2019, that the Groundfish Electronic Monitoring Policy Advisory Committee, 8 a.m. and the Groundfish Electronic Monitoring Technical Advisory Committee, 8 a.m. are meeting, but these meetings have been cancelled. The agenda for the meetings has removed these topics and are corrected as set out in this document.

DATES: The Pacific Council and its advisory entities will meet April 9-16, 2019. The Pacific Council meeting will begin on Thursday, April 11, 2019 at 9 a.m. Pacific Daylight Time (PDT), reconvening at 8 a.m. each day through Monday, April 16, 2019. All meetings are open to the public, except a closed session will be held from 8 a.m. to 9 a.m., Thursday, April 11 to address litigation and personnel matters. The Pacific Council will meet as late as necessary each day to complete its scheduled business.

ADDRESSES: The meetings of the Pacific Council and its advisory entities will be held at the Doubletree by Hilton Sonoma, One Doubletree Drive, Rohnert Park, CA; telephone: (707) 584-5466.

Council address: Pacific Fishery Management Council, 7700 NE Ambassador Place, Suite 101, Portland, OR 97220.

Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the current meeting location, proposed agenda, and meeting briefing materials.

SUPPLEMENTARY INFORMATION: The original notice published in the Federal Register on February 21, 2019 (84 FR 5421).

The April meeting of the Pacific Council will be streamed live on the internet. The broadcasts begin initially at 9 a.m. PDT Thursday, April 11, 2019 and continue at 8 a.m. daily through Tuesday, April 16, 2019. Broadcasts end daily at 5 p.m. PDT or when business for the day is complete. Only the audio portion and presentations displayed on the screen at the Pacific Council meeting will be broadcast. The audio portion is listen-only; you will be unable to speak to the Pacific Council via the broadcast. To access the meeting online, please use the following link: http://www.gotomeeting.com/online/webinar/join-webinar and enter the April Webinar ID, 634-645-459, and your email address. You can attend the webinar online using a computer, tablet, or smart phone, using the GoToMeeting application. It is recommended that you use a computer headset to listen to the meeting, but you may use your telephone for the audio-only portion of the meeting. The audio portion may be attended using a telephone by dialing the toll number 1-562-247-8422 (not a toll-free number), audio access code 532-691-006, and entering the audio pin shown after joining the webinar.

The following items are on the Pacific Council agenda, but not necessarily in this order. Agenda items noted as “Final Action” refer to actions requiring the Council to transmit a proposed fishery management plan, proposed plan amendment, or proposed regulations to the U.S. Secretary of Commerce, under sections 304 or 305 of the Magnuson-Stevens Fishery Conservation and Management Act. Additional detail on agenda items, Council action, advisory entity meeting times, and meeting rooms are described in Agenda Item A.4, Proposed Council Meeting Agenda, and will be in the advance April 2019 briefing materials and posted on the Pacific Council website at www.pcouncil.org no later than Friday, March 22, 2019. These agenda items correct the original meeting notice.

A. Call to Order

1. Opening Remarks

2. Roll Call

3. Executive Director's Report

4. Approve Agenda

B. Open Comment Period

1. Comments on Non-Agenda Items

C. Habitat

1. Current Habitat Issues

D. Administrative Matters

1. National Marine Sanctuaries Coordination Report

2. Saltonstall-Kennedy Grant Program Review

3. Legislative Matters

4. Allocation Review Procedures—Preliminary

5. Fiscal Matters

6. Membership Appointments, Statement of Organization, Practices and Procedures and Council Operating Procedures

7. Future Council Meeting Agenda and Workload Planning

E. Coastal Pelagic Species Management

1. National Marine Fisheries Service Report

2. 2019 Exempted Fishing Permits (EFPs)—Final Approval

3. Pacific Sardine Assessment, Harvest Specifications, and Management Measures—Final Action

4. Central Subpopulation of Northern Anchovy Management Update

5. Central Subpopulation of Northern Anchovy Litigation Response

F. Salmon Management

1. Tentative Adoption of 2019 Management Measures for Analysis

2. Clarify Council Direction on 2019 Management Measures

3. Southern Resident Killer Whale Endangered Species Act Consultation Reinitiation Update

4. Methodology Review Preliminary Topic Selection

5. Salmon Rebuilding Plan Update

6. Further Direction on 2019 Management Measures

7. Final Action on 2019 Management Measures

G. Groundfish Management

1. National Marine Fisheries Service Report

2. Endangered Species Act Mitigation Measures for Seabirds—Preliminary Preferred Action

3. Endangered Species Act Mitigation Measures for Salmon

4. Amendment 26: Blackgill Rockfish—Final Action

5. Science Improvements and Methodology Review Report

6. Electronic Monitoring: Implementation Update

7. Vessel Movement Monitoring Update

8. Cost Recovery Report

9. Final Inseason Management, Including Shorebased Carryover and Salmon Caps for Midwater Trawl Exempted Fishing Permits (EFP)—Final Action

H. Pacific Halibut Management

1. Incidental Catch Limits for 2019 Salmon Troll Fishery—Final Action

2. Commercial Directed Fishery Workshop Planning

Advisory Body Agendas

Advisory body agendas will include discussions of relevant issues that are on the Pacific Council agenda for this meeting, and may also include issues that may be relevant to future Council meetings. Proposed advisory body agendas for this meeting will be available on the Pacific Council website http://www.pcouncil.org/council-operations/council-meetings/current-briefing-book/ no later than Friday, March 22, 2019. These schedule of ancillary meetings correct the original meeting notice.

Schedule of Ancillary Meetings

Day 1—Tuesday, April 9, 2019

Coastal Pelagic Species Management Team, 8 a.m.

Day 2—Wednesday, April 10, 2019

Coastal Pelagic Species Advisory Subpanel, 8 a.m.

Coastal Pelagic Species Management Team, 8 a.m.

Habitat Committee, 8 a.m.

Salmon Advisory Subpanel, 8 a.m.

Salmon Technical Team, 8 a.m.

Scientific and Statistical Committee, 8 a.m.

Budget Committee, 10 a.m.

Model Evaluation Workgroup, 10 a.m.

Tribal Policy Group, Ad Hoc

Tribal and Washington Technical Group, Ad Hoc

Day 3—Thursday, April 11, 2019

California State Delegation, 7 a.m.

Oregon State Delegation, 7 a.m.

Washington State Delegation, 7 a.m.

Coastal Pelagic Species Advisory Subpanel, 8 a.m.

Coastal Pelagic Species Management Team, 8 a.m.

Salmon Advisory Subpanel, 8 a.m.

Salmon Technical Team, 8 a.m.

Scientific and Statistical Committee, 8 a.m.

Enforcement Consultants, 3 p.m.

Tribal Policy Group, Ad Hoc

Tribal and Washington Technical Group, Ad Hoc

Day 4—Friday, April 12, 2019

California State Delegation, 7 a.m.

Oregon State Delegation, 7 a.m.

Washington State Delegation, 7 a.m.

Groundfish Advisory Subpanel, 8 a.m.

Groundfish Management Team, 8 a.m.

Salmon Advisory Subpanel, 8 a.m.

Salmon Technical Team, 8 a.m.

Tribal Policy Group, Ad Hoc

Tribal and Washington Technical Group, Ad Hoc

Enforcement Consultants, Ad Hoc

Saltonstall-Kennedy Grant Feedback Session, 7 p.m.

Day 5—Saturday, April 13, 2019

California State Delegation, 7 a.m.

Oregon State Delegation, 7 a.m.

Washington State Delegation, 7 a.m.

Groundfish Advisory Subpanel, 8 a.m.

Groundfish Management Team, 8 a.m.

Salmon Advisory Subpanel, 8 a.m.

Salmon Technical Team, 8 a.m.

Tribal Policy Group, Ad Hoc

Tribal and Washington Technical Group, Ad Hoc

Enforcement Consultants, Ad Hoc

Day 6—Sunday, April 14, 2019

California State Delegation, 7 a.m.

Oregon State Delegation, 7 a.m.

Washington State Delegation, 7 a.m.

Groundfish Advisory Subpanel, 8 a.m.

Groundfish Management Team, 8 a.m.

Salmon Advisory Subpanel, 8 a.m.

Salmon Technical Team, 8 a.m.

Tribal Policy Group, Ad Hoc

Tribal and Washington Technical Group, Ad Hoc

Enforcement Consultants, Ad Hoc

Day 7—Monday, April 15, 2019

California State Delegation, 7 a.m.

Oregon State Delegation, 7 a.m.

Washington State Delegation, 7 a.m.

Groundfish Advisory Subpanel, 8 a.m.

Groundfish Management Team, 8 a.m.

Salmon Advisory Subpanel, 8 a.m.

Salmon Technical Team, 8 a.m.

Tribal Policy Group, Ad Hoc

Tribal and Washington Technical Group, Ad Hoc

Enforcement Consultants, Ad Hoc

Day 8—Tuesday, April 16, 2019

Salmon Technical Team, 8 a.m.

Although non-emergency issues not contained in this agenda may come before the Pacific Council for discussion, those issues may not be the subject of formal Council action during this meeting. Council action will be restricted to those issues specifically listed in this notice and any issues arising after publication of this notice that require emergency action under section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2411 at least 10 business days prior to the meeting date.

Dated: March 20, 2019.
Tracey L. Thompson,
Acting Deputy Director, Office of Sustainable Fisheries, National Marine Fisheries Service.

[FR Doc. 2019-05651 Filed 3-22-19; 8:45 am]

BILLING CODE 3510-22-P